DEPARTMENT OF LABOR

Employment and Training Administration

[TA-W-52,209]

H. Warshow And Sons, Inc., Milton, PA; Notice of Termination of Investigation

Pursuant to Section 221 of the Trade Act of 1974, as amended, an investigation was initiated on July 2, 2003, in response to a worker petition filed by a company official on behalf of workers at H. Warshow and Sons, Inc., Milton, Pennsylvania.

The petitioner has requested that the petition be withdrawn. Consequently, the investigation has been terminated.

Signed at Washington, DC this 7th day of July, 2003.
Richard Church,
Certifying Officer, Division of Trade Adjustment Assistance.

[FR Doc. 03-18550 Filed 7-21-03; 8:45 am]

BILLING CODE 4510-30-P